SURFACE TRANSPORTATION BOARD

[Docket No. EP 670 (Sub-No. 2)]

Notice of Rail Energy Transportation Advisory Committee Vacancy; Correction

AGENCY: Surface Transportation Board.

ACTION: Notice; correction.

SUMMARY: The Surface Transportation Board published a document in the Federal Register of March 6, 2016, giving notice of one vacancy on its Rail Energy Transportation Advisory Committee and soliciting suggestions from the public for candidates to fill the vacancy. The published document contained an incorrect description of the vacancy.

FOR FURTHER INFORMATION CONTACT: Kristen Nunnally, (202) 245-0312. Federal Information Relay Service (FIRS) for the hearing impaired: (800) 877-8339.

SUPPLEMENTARY INFORMATION:

Correction

In the Federal Register of March 6, 2019, in FR Doc. 2019-03981, on page 8151, in the first and second columns, correct the “Summary” and “Supplementary Information” captions by replacing the phrase “a representative of the electric utility industry” with the phrase “a representative of the electric utility industry from a rural electric cooperative.” All other information remains unchanged.

Decided: March 15, 2019.
By the Board, Allison C. Davis, Acting Director, Office of Proceedings.
Regena Smith-Bernard,
Clearance Clerk.

[FR Doc. 2019-05252 Filed 3-19-19; 8:45 am]

BILLING CODE 4915-01-P